DEPARTMENT OF JUSTICE

Drug Enforcement Administration

[Docket No. DEA-392]

Importer of Controlled Substances Application: Galephar Pharmaceutical Research Inc.

ACTION: Notice of application.

DATES: Registered bulk manufacturers of the affected basic classes, and applicants therefore, may file written comments on or objections to the issuance of the proposed registration on or before October 21, 2019. Such persons may also file a written request for a hearing on the application on or before October 21, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on June 10, 2019, Galephar Pharmaceutical Research Inc., #100 Carr 198 Industrial Park, Juncos, Puerto Rico, 00777 applied to be registered as an importer of the following basic class of controlled substance:

Controlled substance | Drug code | Schedule
Hydromorphone | 9150 | II

The company plans to import the listed controlled substance in finished dosage form for analytical purpose only.

Dated: August 22, 2019.
Neil D. Doherty,
Acting Assistant Administrator.

[FR Doc. 2019-20412 Filed 9-19-19; 8:45 am]

BILLING CODE 4410-09-P